DEPARTMENT OF VETERANS AFFAIRS

[OMB Control No. 2900-0662]

Agency Information Collection Activity Under OMB Review: Civil Rights Discrimination Complaint

AGENCY: Human Resources and Administration/Operations, Security, and Preparedness (HRA/OSP), Department of Veterans Affairs.

ACTION: Notice.

SUMMARY: In compliance with the Paperwork Reduction Act (PRA) of 1995, this notice announces that the Human Resources and Administration/Operations, Security and Preparedness, Diversity & Inclusion, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0662.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0662” in any correspondence.

SUPPLEMENTARY INFORMATION:

Authority: 44 U.S.C. 3501-21. Under the PRA of 1995 (Pub. L 104-13; 44 U.S.C. 3501-3521), Federal agencies must obtain approval from the Office of Management and Budget (OMB) for each collection of information they conduct or sponsor. This request for comment is being made pursuant to Section 3506(c)(2)(A) of the PRA. With respect to the following collection of information, HRA/OSP invites comments on: (1) whether the proposed collection of information is necessary for the proper performance of ORMDI's functions, including whether the information will have practical utility; (2) the accuracy of HRA/OSP's estimate of the burden of the proposed collection of information; (3) ways to enhance the quality, utility, and clarity of the information to be collected; and (4) ways to minimize the burden of the collection of information on respondents, including through the use of automated collection techniques or the use of other forms of information technology.

Title: Civil Rights Discrimination Complaint, VA Form 08-0381.

OMB Control Number: 2900-0662.

Type of Review: Revision of a currently approved collection.

Abstract: Veterans and other customers who believe that their civil rights were violated by agency employees while receiving medical care or services in VA medical centers, or institutions such as state home receiving federal financial assistance from VA, complete VA Form 08-0381 to file a formal complaint of the alleged discrimination.

An agency may not conduct or sponsor, and a person is not required to respond to a collection of information unless it displays a currently valid OMB control number. The Federal Register Notice with a 60-day comment period soliciting comments on this collection of information was published at 87 FR 187 on September 28, 2022, pages 58944 and 58945.

Affected Public: Individuals or Households.

Estimated Annual Burden: 113 Hours.

Estimated Average Burden per Respondent: 15 minutes.

Frequency of Response: On occasion.

Estimated Number of Respondents: 450.

By direction of the Secretary.
Maribel Aponte,
VA PRA Clearance Officer, Office of Enterprise and Integration, Data Governance Analytics, Department of Veterans Affairs.

[FR Doc. 2022-25996 Filed 11-28-22; 8:45 am]

BILLING CODE 8320-01-P